GENERAL SERVICES ADMINISTRATION

[OMB Control No. 3090-0274; Docket 2012-0001; Sequence 16]

Public Buildings Service; Submission for OMB Review; Art-in-Architecture Program National Artist Registry (GSA Form 7437)

AGENCY: Public Buildings Service (GSA).

ACTION: Notice of request for comments regarding an extension to an existing OMB clearance.

SUMMARY: Under the provisions of the Paperwork Reduction Act, the Regulatory Secretariat will be submitting to the Office of Management and Budget (OMB) a request to review and approve an extension of a previously approved information collection requirement regarding Art-in Architecture Program National Artist Registry (GSA Form 7437). A notice was published in the Federal Register at 77 FR 58141, on September 19, 2012. No comments were received.

The Art-in-Architecture Program is the result of a policy decision made in January 1963 by GSA Administrator Bernard L. Boudin who had served on the Ad Hoc Committee on Federal Office Space in 1961-1962.

The program has been modified over the years, most recently in 2009 when a requirement was instituted that all artists who want to be considered for any potential GSA commission must be included on the National Artists Registry, which serves as the qualified list of eligible artists. The program continues to commission works of art from living American artists. One-half of one percent of the estimated construction cost of new or substantially renovated Federal buildings and U.S. courthouses is allocated for commissioning works of art.

Public comments are particularly invited on: Whether this collection of information is necessary and whether it will have practical utility; whether our estimate of the public burden of this collection of information is accurate, and based on valid assumptions and methodology; ways to enhance the quality, utility, and clarity of the information to be collected.

DATES: Submit comments on or before: January 10, 2013.

FOR FURTHER INFORMATION CONTACT: Ms. Jennifer Gibson, Office of the Chief Architect, Art-in-Architecture & Fine Arts Division (PCAC), 1800 F Street NW., Room 3305, Washington, DC 20405, at telephone(202) 501-0930 or via email to Jennifer.gibson@gsa.gov.

ADDRESSES: Submit comments identified by Information Collection 3090-0274, Art-in-Architecture Program National Artist Registry (GSA Form 7437), by any of the following methods:

• Regulations.gov: http://www.regulations.gov. Submit comments via the Federal eRulemaking portal by searching the OMB control number. Select the link “Submit a Comment” that corresponds with “Information Collection 3090-0274, Art-in-Architecture Program National Artist Registry (GSA Form 7437).” Follow the instructions provided at the “Submit a Comment” screen. Please include your name, company name (if any), and “Information Collection 3090-0274, Art-in-Architecture Program National Artist Registry (GSA Form 7437)” on your attached document.

• Fax: 202-501-4067.

• Mail: General Services. Administration. Regulatory Secretariat (MVCB), 1275 First Street NE., Washington, DC 20417. ATTN: Hada Flowers/IC 3090-0274, Art-in-Architecture Program National Artist Registry (GSA Form 7437).

Instructions: Please submit comments only and cite Information Collection 3090-0274, Art-in-Architecture Program National Artist Registry (GSA Form 7437), in all correspondence related to this collection. All comments received will be posted without change to http://www.regulations.gov, including any personal and/or business confidential information provided.

SUPPLEMENTARY INFORMATION:

A. Purpose

The Art-in-Architecture Program actively seeks to commission works from the full spectrum of American artists and strives to promote new media and inventive solutions for public art. The GSA Form 7437, Art-in-Architecture Program National Artist Registry, will be used to collect information from artists across the country to participate and to be considered for commissions.

B. Annual Reporting Burden

Respondents: 300.

Responses Per Respondent: 1.

Total Responses: .25.

Hours per Response: .25.

Total Burden Hours: 75.

Obtaining Copies of Proposals: Requesters may obtain a copy of the information collection documents from the General Services Administration, Regulatory Secretariat (MVCB), 1275 First Street NE., Washington, DC 20417, telephone (202) 501-4755. Please cite OMB Control No. 3090-0274, Art-in-Architecture Program National Artist Registry (GSA Form 7437), in all correspondence.

Dated:December 3, 2012.
Casey Coleman,
Chief Information Officer.

[FR Doc. 2012-29890 Filed 12-10-12; 8:45 am]

BILLING CODE 6820-34-P